DEPARTMENT OF AGRICULTURE

Animal and Plant Health Inspection Service

7 CFR Part 301

[Docket No. 02-130-3]

Oriental Fruit Fly; Removal of Quarantined Area

AGENCY: Animal and Plant Health Inspection Service, USDA.

ACTION: Affirmation of interim rule as final rule.

SUMMARY: We are adopting as a final rule, without change, an interim rule that amended the Oriental fruit fly regulations by removing portions of Los Angeles and Orange Counties, CA, from the list of quarantined areas and by removing restrictions on the interstate movement of regulated articles from those areas. The interim rule was necessary to relieve restrictions that were no longer needed to prevent the spread of the Oriental fruit fly into noninfested areas of the United States.

EFFECTIVE DATE: The interim rule became effective on July 15, 2003.

FOR FURTHER INFORMATION CONTACT: Mr. Wayne D. Burnett, National Program Manager, PPQ, APHIS, 4700 River Road Unit 137, Riverdale, MD 20737-1231; (301) 734-6553.

SUPPLEMENTARY INFORMATION:

Background

The Oriental fruit fly, Bactrocera dorsalis (Hendel), is a destructive pest of citrus and other types of fruit, nuts, vegetables, and berries. The short life cycle of the Oriental fruit fly allows rapid development of serious outbreaks, which can cause severe economic losses. Heavy infestations can cause complete loss of crops.

The Oriental fruit fly regulations, contained in 7 CFR 301.93 through 301.93-10 (referred to below as the regulations), were established to prevent the spread of the Oriental fruit fly into noninfested areas of the United States. The regulations also designate soil and a large number of fruits, nuts, vegetables, and berries as regulated articles.

In an interim rule effective on July 15, 2003, and published in the Federal Register on July 22, 2003 (68 FR 43286-43287, Docket No. 02-130-2), we amended the regulations by removing portions of Los Angeles and Orange Counties, CA from the list of quarantined areas and by removing restrictions on the interstate movement of regulated articles from those areas. That action was based on our determination that the Oriental fruit fly had been eradicated from those portions of Los Angeles and Orange Counties, CA, and that the quarantine and restrictions were no longer necessary.

Comments on the interim rule were required to be received on or before September 22, 2003. We received one comment by that date. The comment was from a representative of a Hispanic growers advisory committee. The commenter supported the interim rule, but posed two questions.

First, the commenter noted that in the interim rule we stated that the Oriental fruit fly “has been eradicated” and “no longer exists” in the quarantined areas. The commenter asked if these were two different types of determinations based on different processes, or part of the same process. Our statements that the Oriental fruit fly “has been eradicated” and “no longer exists” in the quarantined area were simply two ways of referring to the same type of determination based on a single process.

Second, the commenter noted that in the interim rule we stated that our determination that Oriental fruit fly had been eradicated was based on trapping surveys. The commenter asked if trapping surveys were the only method used to determine that the Oriental fruit fly had been eradicated. Trapping surveys conducted by Animal and Plant Health Inspection Service and State inspectors are known to be reliable and effective and, as such, are the only method we employ to determine whether the Oriental fruit fly is present in a particular area.

The commenter also suggested some editorial changes to the text in the interim rule's SUPPLEMENTARY INFORMATION section. These suggested changes had no bearing on the basis for or effects of the interim rule, thus there is no need to make any changes to the interim rule in response to the commenter's suggestions.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 68 FR 43286-43287 on July 22, 2003.

Authority: 7 U.S.C. 7701-7772; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 11th day of August 2004.
W. Ron DeHaven,
Administrator, Animal and Plant Health Inspection Service.

[FR Doc. 04-18784 Filed 8-16-04; 8:45 am]

BILLING CODE 3410-34-P